DEPARTMENT OF HOMELAND SECURITY

Coast Guard

33 CFR Parts 140, 143, and 146

46 CFR Parts 61 and 62

[USCG-2014-0063]

RIN 1625-AC16

Requirements for MODUs and Other Vessels Conducting Outer Continental Shelf Activities With Dynamic Positioning Systems

AGENCY: Coast Guard, DHS.

ACTION: Notice of public meeting; request for comments.

SUMMARY: The Coast Guard announces a public meeting to receive comments on a notice of proposed rulemaking entitled, “Requirements for MODUs and Other Vessels Conducting Outer Continental Shelf Activities With Dynamic Positioning Systems.” The proposed regulations would establish minimum design, operation, training, and manning standards for mobile offshore drilling units (MODUs) and other vessels using dynamic positioning systems to engage in Outer Continental Shelf activities.

DATES: A public meeting will be held in New Orleans, LA, on March 31, 2015, from 9 a.m. to 1 p.m. Please note that the public meeting has a limited number of seats. We request those who plan to attend to contact the meeting coordinator, Lieutenant Stephanie Waller, by phone or email listed in the FOR FURTHER INFORMATION CONTACT section not later than March 24, 2015. The meeting may close early if all business is finished or time may be extended to allow for more comments. Written comments and related material may be submitted to Coast Guard personnel specified at the meeting for inclusion in the official docket. The comment period for the proposed rule closes May 27, 2015. All written comments and related material submitted after the meeting must either be submitted to our online docket via http://www.regulations.gov on or before May 27, 2015 or reach the Docket Management Facility by that date.

ADDRESSES: The public meeting will be held at the following location:

• Board's Administration Building, 1350 Port of New Orleans Place, New Orleans, LA, 70130. The Board's Administration Building is located at the Port of New Orleans Headquarters, which is building 3 in the map linked below. Please view the map at the following link for the exact location: http://portno.com/cms/resources/facilities/facilitiesmaps_03.jpg.

• Parking will be at local private pay-to-park facilities. The Morial Convention Center's “J” lot is one option and is about 2 blocks from the Administration Building off of Henderson Street and right across from building 4 in the map linked above, which is Mardi Gras World.

You may submit written comments identified by docket number USCG-2014-0063 before or after the meeting using any one of the following methods:

(1) Federal eRulemaking Portal: http://www.regulations.gov under docket number USCG-2005-21869.

(2) Fax: 202-493-2251.

(3) Mail: Docket Management Facility (M-30), U.S. Department of Transportation, West Building Ground Floor, Room W12-140, 1200 New Jersey Avenue SE., Washington, DC 20590-0001.

(4) Hand delivery: Same as mail address above, between 9 a.m. and 5 p.m., Monday through Friday, except Federal holidays. The telephone number is 202-366-9329.

To avoid duplication, please use only one of these four methods. The online docket for this rulemaking is available on the Internet at http://www.regulations.gov under docket number USCG-2014-0063.

FOR FURTHER INFORMATION CONTACT: If you have questions concerning the public meeting, on facilities or services for individuals with disabilities, or wish to request special assistance or reasonable accommodation at the public meeting, please contact Lieutenant Stephanie Waller, Human Factors and Ship Design Division (CG-ENG-1), Coast Guard, Stephanie.E.Waller@uscg.mil, telephone 202-372-1374. If you have questions on viewing or submitting material to the docket, call Ms. Cheryl Collins, Program Manager, Docket Operations, telephone 202-366-9826 or 1-800-647-5527.

SUPPLEMENTARY INFORMATION:

I. Public Participation and Request for Comments

We encourage you to participate in this rulemaking by submitting comments either orally at the meeting or in writing. If you bring written comments to the meeting, you may submit them to Coast Guard personnel specified at the meeting to receive written comments. These comments will be submitted to our online public docket. All comments received will be posted without change to http://www.regulations.gov and will include any personal information you have provided.

A. Submitting Comments

If you submit a comment using any of the methods described in the ADDRESSES section of this notice, please include the docket number for this rulemaking (USCG-2014-0063), indicate the specific section of the NPRM to which each comment applies, and provide a reason for each suggestion or recommendation. We recommend that you include your name and a mailing address, an email address, or a phone number in the body of your document so that we can contact you if we have questions regarding your submission.

To submit your comment online, go to http://www.regulations.gov and insert “USCG-2014-0063” in the “Search” box. Click on “Submit a Comment” in the “Actions” column. If you submit your comments by mail or hand delivery, submit them in an unbound format, no larger than 8½ by 11 inches, suitable for copying and electronic filing. If you submit comments by mail and would like to know that they reached the Facility, please enclose a stamped, self-addressed postcard or envelope.

We will consider all comments and material received during the comment period and may change this notice of proposed rulemaking (NPRM) based on your comments.

B. Viewing Comments and Documents

To view comments, as well as documents mentioned in this preamble as being available in the docket, go to http://www.regulations.gov and insert “USCG-2014-0063” in the “Search” box. Click “Search.” Click the “Open Docket Folder” in the “Actions” column. If you do not have access to the Internet, you may view the docket online by visiting the Docket Management Facility in Room W12-140 on the ground floor of the Department of Transportation West Building, 1200 New Jersey Avenue SE., Washington, DC 20590, between 9 a.m. and 5 p.m., Monday through Friday, except Federal holidays. We have an agreement with the Department of Transportation to use the Docket Management Facility.

C. Privacy Act

Anyone can search the electronic form of comments received into any of our dockets by the name of the individual submitting the comment (or signing the comment, if submitted on behalf of an association, business, labor union, etc.). You may review a Privacy Act notice regarding our public dockets in the January 17, 2008 issue of the Federal Register (73 FR 3316).

II. Background and Purpose

The Coast Guard published a notice of proposed rulemaking (NPRM) in the Federal Register on November 28, 2014 entitled, “Requirements for MODUs and Other Vessels Conducting Outer Continental Shelf Activities With Dynamic Positioning Systems” (79 FR 70943). In the NPRM we stated our intention to hold a public meeting, and to publish a notice to announce the location and date of that meeting (79 FR 70944).

The proposed rule would establish minimum design, operation, training, and manning standards for MODUs and other vessels using dynamic positioning systems to engage in Outer Continental Shelf activities. Establishing these minimum standards is necessary to improve the safety of people and property involved in such operations, and the protection of the environment in which they operate. The rule would decrease the risk of a loss of position by a dynamically-positioned MODU or other vessel that could result in a fire, explosion, or subsea spill, and support the Coast Guard's strategic goals of maritime safety and protection of natural resources.

We plan to record this meeting using an audio-digital recorder and to make that audio recording available through a link in our online docket. We will also provide a written summary of the meeting and comments and will place that summary in the docket.

III. Authority

This notice is issued under the authority of 5 U.S.C. 552(a).

Dated: March 4, 2015.
J.G. Lantz,
Director of Commercial Regulations and Standards, U.S. Coast Guard.

[FR Doc. 2015-05551 Filed 3-10-15; 8:45 am]

BILLING CODE 9110-04-P